CONSUMER PRODUCT SAFETY COMMISSION

Petition HP 01-3 Requesting a Ban of Chromated Copper Arsenate (CCA)-Treated Wood in Playground Equipment

AGENCY: Consumer Product Safety Commission.

ACTION: Notice of public meeting.

SUMMARY: The Consumer Product Safety Commission (CPSC or Commission) will conduct a public meeting on March 17, 2003 to receive comments on the CPCS staff briefing package on petition HP 01-3 requesting a ban of chromated copper arsenate (CCA)-treated wood in playground equipment. The CPSE staff will also brief the Commission on the package on that date.

The focus of the discussions will be the supporting information developed by CPSC staff that is described in the February 7, 2003 briefing package entitled Petition to Ban Chromated Copper Arsenate (CCA)-Treated Wood in Playground Equipment. The Commission invites oral presentations from individuals, associations, firms, and government agencies with information or comments related to the briefing package. The Commission will evaluate these presentations in its deliberations on petition HP 01-3.

DATES: The CPSC staff will brief the Commission on the issues at 10 a.m. on March 17, 2003. Oral presentations by commenters will begin at 2 p.m. on that date. In the event that time constraints require it, the meeting may continue to the next day. No oral presentations will be permitted by persons who do not submit both a request to testify and the text of the presentation by February 28, 2003. Requests to make oral presentations, and 10 copies of the text of the presentation, must be received by the CPSC Office of the Secretary no later than February 28, 2003. Persons making presentations at the meeting should provide an additional 50 copies for dissemination on the date of the meeting.

Presentation texts should identify the author's affiliation with, or employment or sponsorship by, any entity with an interest in the petitioner's request that the Commission ban use of CCA-treated wood in playground equipment. The Commission reserves the right to limit the number of persons who make presentations and the duration of their presentations. To prevent similar presentations, groups will be directed to designate a spokesperson.

Written submissions, in addition to, or instead of, an oral presentation may be sent to the address listed below and will be accepted until March 28, 2003.

ADDRESSES: The meeting will be in room 420 of the East-West Towers Building, 4330 East-West Highway, Bethesda, MD. Requests to make oral presentations, and texts of oral presentations should be captioned ACCA Ban Petition, Petition HP 01-3@ and be mailed to the Office of the Secretary, Consumer Product Safety Commission, Washington, DC 20207, or delivered to that office, room 502, 4330 East-West Highway, Bethesda, Maryland 20814. Requests and texts of oral presentations may also be submitted by facsimile to (301) 504-0127 or by e-mail to spsc-os@cpsc.gov.

FOR FURTHER INFORMATION CONTACT: For information about the purpose or subject matter of this meeting contact Patricia M. Bittner, M.S., Project Manager, Directorate for Health Sciences, U.S. Consumer Product Safety Commission, Washington, DC 20207; telephone (301) 504-7263; e-mail: pbittner@cpsc.gov. For information about the schedule for submission of requests to make oral presentations and submission of texts of oral presentations, contact Rockelle Hammond, Office of the Secretary, Consumer Product Safety Commission, Washington, DC 20207; telephone (301) 504-6833; fax (301) 504-0127; e-mail rhammond@cpsc.gov.

SUPPLEMENTARY INFORMATION:

A. Background

By a submission dated May 22, 2001, the Environmental Working Group (EWG) and the Healthy Building Network (HBN) requested that the Commission enact a ban on use of chromated copper arsenate (CCA)-treated wood in playground equipment.¹ The submitters asserted that a ban is necessary because “[r]ecent research has shown that arsenic is more carcinogenic than previously recognized, that arsenic is present at significant concentrations on CCA-treated wood and in underlying soil, that the health risks posed by this wood are greater than previously recognized, and that past risk assessments were incomplete.” On June 20, 2001, that request was docketed as petition HP 01-3 under the Federal Hazardous Substances Act (FHSA), 15 U.S.C. 1261-1278.

¹ The submission also contained a request that the commission review the safety of CCA-treated wood for general use. Such a review would not require rulemaking to implement. Therefore, that request was not docketed as a petition for rulemaking.

The Commission solicited public comment on the petition by Federal Register notice of July 13, 2001. 66 FR 36756. Twenty-eight comments were received by the close of the comment period on September 11, 2001. The staff also held a public meeting on August 6, 2001 with members of the American Chemistry Council (representing CCA chemical manufacturers) and the American Wood Preservers Institute. On October 3, 2001, the staff conducted a public meeting with representatives of the petitioners. The comments from the wood industry, environmental groups, trade associations, consumers, and state and local governments discussed toxicity issues, health risks from exposure to CCA-treated wood, CCA-treated wood as a possible hazardous substance under the FHSA, the levels of dislodgeable arsenic present on the wood, the bioavailability of arsenic, exposure to arsenic in soil and groundcover, disposal issues, and whether the type of wood influences arsenic leaching.

The staff has completed its analysis of the petition and the comments received and has forwarded a briefing package to the Commission.The staff recommends that the Commission defer further action on the petition pending final action by the United States Environmental Protection Agency (EPA) on the request by the registrants of the CCA pesticide to cancel registrations for most, if not all, uses that involve treating wood for consumer uses, including for use in playground equipment.

B. The Public Meeting

The purpose of the public meeting is to provide a forum for oral presentations on the CPSC staff briefing package on petition HP 01-3 and the materials that are described in the staff briefing package.

Participation in the meeting is open. See the DATES section of this notice for information on making requests to give oral presentations at the meeting and on making written submissions.

Dated: February 11, 2003.
Todd A. Stevenson,
Secretary, Consumer Product Safety Commission.

[FR Doc. 03-3824 Filed 2-13-03; 8:45 am]

BILLING CODE 6355-01-M